DEPARTMENT OF COMMERCE

International Trade Administration

[A-122-840]

Carbon and Certain Alloy Steel Wire Rod From Canada: Notice of Partial Rescission of Antidumping Duty Administrative Review

AGENCY: Import Administration, International Trade Administration, Department of Commerce.

SUMMARY: The Department of Commerce (the Department) is partially rescinding its administrative review of the antidumping duty order on carbon and certain alloy steel wire rod from Canada for the period October 1, 2006, to September 30, 2007, with respect to Mittal Canada Inc. (formerly Ispat Sidbec Inc.). This rescission, in part, is based on the timely withdrawal of the request for review.

DATES: December 27, 2007.

FOR FURTHER INFORMATION CONTACT: David Cordell or Robert James, AD/CVD Operations, Office 7, Import Administration, International Trade Administration, U.S. Department of Commerce, 14th Street and Constitution Avenue, NW., Room 7866, Washington, DC 20230; telephone: (202) 482-0408 and (202) 482-0649, respectively.

Background

On October 29, 2002, the Department published in the Federal Register an antidumping duty order on carbon and certain alloy steel wire rod (steel wire rod) from Canada. See Notice of Amended Final Determination of Sales at Less Than Fair Value and Antidumping Duty Order: Carbon and Certain Alloy Steel Wire Rod from Canada, 67 FR 65944 (October 29, 2002) (Order).

On October 1, 2007, the Department issued a notice of opportunity to request an administrative review of this order for the October 1, 2006 through September 30, 2007 period of review. See Antidumping or Countervailing Duty Order, Finding, or Suspended Investigation; Opportunity to Request Administrative Review, 72 FR 55741 (October 1, 2007). Administrative reviews were requested for Ivaco Rolling Mills 2004 (formerly Ivaco Rolling Mills L.P.), Sivaco Ontario, a division of Sivaco Wire Group 2004 L.P. (formerly Ivaco, Inc.), and Mittal Canada Inc. (formerly Ispat Sidbec Inc.). On November 26, 2007, the Department initiated a review of these companies. See Initiation of Antidumping and Countervailing Duty Administrative Reviews and Request for Revocation in Part, 72 FR 65938 (November 26, 2007).

Rescission in Part, of Administrative Review

The applicable regulation, 19 CFR 351.213(d)(1), states that if a party that requested an administrative review withdraws the request within 90 days of the publication of the notice of initiation of the requested review, the Secretary will rescind the review in whole or in part. Mittal Canada Inc. (formerly Ispat Sidbec Inc.) made a timely withdrawal of its request for an administrative review within the 90-day deadline. Because no other party requested an administrative review of that company, we are rescinding the review with regard to Mittal Canada Inc. (formerly Ispat Sidbec Inc.).

The Department intends to issue appropriate assessment instructions directly to U.S. Customs and Border Protection (CBP) 15 days after the publication of this notice. The Department will direct CBP to assess antidumping duties for this company at the cash deposit rate in effect on the date of entry for entries during the period October 1, 2006, to September 30, 2007.

Notification to Importers

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

Notification Regarding Administrative Protective Orders

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(1) and 777(i)(1) of the Tariff Act of 1930, as amended.

Dated: December 17, 2007.
Stephen J. Claeys,
Deputy Assistant Secretary, for Import Administration.

[FR Doc. 07-6217 Filed 12-26-07; 8:45 am]

BILLING CODE 3510-DS-M